DEPARTMENT OF JUSTICE

Notice of Lodging of Consent Decree Under the Clean Air Act

Notice is hereby given that on April 24, 2008, a proposed Consent Decree (“Decree”) in United States v. McCulloch Corporation, et al., Civil Action No. 1:08-cv-00699, was lodged with the United States District Court for the District of Columbia.

In this action the United States, on behalf of the U.S. Environmental Protection Agency (“U.S. EPA”), sought penalties and injunctive relief under sections 204, 205, and 213 of the Clean Air Act (“the Act” or “CAA”), 42 U.S.C. 7523, 7524, and 7547, and regulations promulgated thereunder at 40 CFR part 90 (“Nonroad SI Regulations”), which arose from the importation and introduction into commerce of approximately 200,000 chainsaws (“subject chainsaws”) that failed to comply with the Nonroad SI Regulations. The proposed Decree resolves alleged violations of the CAA arising from the importation of the subject chainsaws. Under the Decree, Defendants will pay a $2 million civil penalty, export unsold chainsaws, perform emissions testing on a representative sampling of engines, and implement robust compliance assurance plans designed to prevent future violations. Defendants will also perform the following three mitigation projects at an estimated cost of $5 million: (1) Spend at least $2.75 million to provide light-emitting diode (“LED”) streetlights, sport lights or parking lot lights to selected cities in the United States, (2) spend at least $1.25 million to purchase and then surrender to U.S. EPA Ozone Season NOX Allowances, and (3) install low-permeable fuel lines that will prevent or reduce volatile organic compound permeation emissions in at least 1 million small, spark-ignited engines used for handheld lawn and garden applications.

The Department of Justice will receive for a period of thirty (30) days from the date of this publication comments relating to the Decree. Comments should be addressed to the Assistant Attorney General, Environment and Natural Resources Division, P.O. Box 7611, U.S. Department of Justice, Washington, D.C. 20044-7611, and either e-mailed to pubcomment-ees.enrd@usdoj.gov or mailed to P.O. Box 7611, U.S. Department of Justice, Washington, DC 20044-7611, and should refer to United States v. McCulloch Corporation et al., D.J. Ref. 90-5-2-1-09103. The Decree may be examined at U.S. EPA, Office of Enforcement and Compliance Assurance, Western Field Office (8MSU), 1595 Wynkoop Street, Denver, CO 80202. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.25 (25 cents per page reproduction cost) payable to the U.S. Treasury or, if by e-mail or fax, forward a check in that amount to the Consent Decree Library at the stated address.

Karen Dworkin,
Assistant Chief, Environmental Enforcement Section, Environment and Natural Resources Division.

[FR Doc. E8-9677 Filed 5-1-08; 8:45 am]

BILLING CODE 4410-15-P